FEDERAL ELECTION COMMISSION

Sunshine Act Meetings

AGENCY: Federal Election Commission.

DATE & TIME: Tuesday, March 18, 2014 at 10:00 a.m.

PLACE: 999 E Street NW., Washington, DC (Ninth Floor).

STATUS: This meeting will be open to the public.

ITEMS TO BE DISCUSSED: Correction and Approval of Minutes for March 6, 2014

Draft Advisory Opinion 2014-01: Solano County United Democratic Central Committee

Draft Final Rules and Explanation and Justification: Technical Corrections to Title 11 of the Code of Federal Regulations

Audit Division Recommendation Memorandum on the State Democratic Executive Committee of Alabama (A11-22)

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2014-05732 Filed 3-12-14; 4:15 pm]

BILLING CODE 6715-01-P